DEPARTMENT OF LABOR

Wage and Hour Division

Agency Information Collection Activities; Comment Request; Information Collections: Labor Standards for Federal Service Contracts

AGENCY: Wage and Hour Division, Department of Labor.

ACTION: Notice.

SUMMARY: The Department of Labor (Department) is soliciting comments concerning a proposed extension of the information collection request (ICR) titled, “Labor Standards for Federal Service Contracts.” This comment request is part of continuing Departmental efforts to reduce paperwork and respondent burden in accordance with the Paperwork Reduction Act of 1995 (PRA). The Department proposes to extend its information collection without change to existing requirements. The PRA comment process helps to ensure that requested data can be provided in the desired format, reporting burden (time and financial resources) is minimized, collection instruments are clearly understood, and the impact of collection requirements on respondents can be properly assessed. A copy of the proposed information request can be obtained by contacting the office listed below in the FOR FURTHER INFORMATION CONTACT section of this Notice.

DATES: Written comments must be submitted to the office listed in the ADDRESSES section below on or before October 6, 2025.

ADDRESSES: You may submit comments identified by Control Number 1235-0007 by either one of the following methods:

• Email: WHDPRAComments@dol.gov;

• Mail, Hand Delivery, Courier: Division of Regulations, Legislation, and Interpretation, Wage and Hour, U.S. Department of Labor, Room S-3502, 200 Constitution Avenue NW, Washington, DC 20210.

Instructions: Please submit one copy of your comments by only one method. All submissions received must include the agency name and Control Number identified above for this information collection. Commenters are strongly encouraged to transmit their comments electronically via email or to submit them by mail early. Comments, including any personal information provided, become a matter of public record. They will also be summarized and/or included in the request for Office of Management and Budget (OMB) approval of the information collection request.

FOR FURTHER INFORMATION CONTACT: Daniel Navarrete, Division of Regulations, Legislation, and Interpretation, Wage and Hour Division, U.S. Department of Labor, Room S-3502, 200 Constitution Avenue NW, Washington, DC 20210; telephone: (202) 693-0406 (this is not a toll-free number). Alternative formats are available upon request by calling 1-866-487-9243. If you are deaf, hard of hearing, or have a speech disability, please dial 7-1-1 to access telecommunications relay services.

SUPPLEMENTARY INFORMATION:

I. Background

The Department's Wage and Hour Division (WHD) administers the McNamara-O'Hara Service Contract Act (SCA or Act), 41 U.S.C. 351 et seq. The SCA applies to every contract entered into by the United States or the District of Columbia, the principal purpose of which is to furnish services to the United States through the use of service employees. The SCA requires contractors and subcontractors performing services on covered federal or District of Columbia contracts in excess of $2,500 to pay service employees in various classes no less than the monetary wage rates and fringe benefits found prevailing in the locality, or the rates (including prospective increases) contained in a predecessor contractor's collective bargaining agreement. Safety and health standards also apply to such contracts. WHD enforces the compensation requirements of the SCA.

A. Vacation Benefit Seniority List

Section 2(a) of the SCA provides that every contract subject to the Act must contain a provision specifying the minimum monetary wages and fringe benefits to be paid to the various classes of service employees performing work on the contract. Many wage determinations issued for recurring services performed at the same federal facility provide for certain vested fringe benefits (e.g., vacations), which are based on the employee's total length of service with a contractor or any predecessor contractor. See 29 CFR 4.162. When found to prevail, such fringe benefits are incorporated in wage determinations and are usually stated as “one-week paid vacation after one year's service with a contractor or successor, two weeks after two years,” etc. These provisions ensure that employees receive the vacation benefit payments that they have earned and accrued by requiring that such payments be made by successor contractors who hire the same employees who have worked over the years at the same facility in the same locality for predecessor contractors.

B. Conformance Record

Section 2(a) of the SCA provides that every contract subject to the Act must contain a provision specifying the minimum monetary wage and fringe benefits to be paid the various classes of service employees employed on the contract work. See 41 U.S.C. 351, et seq. Problems sometimes arise (1) when employees are working on service contracts in job classifications that the Department was not previously informed about and (2) when there are job classifications for which no wage data are available.

Section 4.6(b)(2) of 29 CFR part 4 provides a process for “conforming” (i.e., adding) classifications and wage rates to the wage determinations for classes of service employees not previously listed on a wage determination but where employees are actually working on an SCA covered contract. This process ensures that the requirements of section 2(a) of the Act are fulfilled and that a formal record exists as part of the contract which documents the wage rate and fringe benefits to be paid for a conformed classification while a service employee(s) is employed on the contract.

The contracting officer is required to review each contractor-proposed conformance to determine if the unlisted classes have been properly classified by the contractor so as to provide a reasonable relationship (i.e., appropriate level of skill comparison) between such unlisted classifications and the classifications (and wages) listed in the wage determination. See 29 CFR 4.6(b)(2). Moreover, the contracting agency is required to forward the conformance action to WHD for review and approval. Id.

C. Indexing

In any case where a contract succeeds a contract under which a class was previously conformed, the contractor may use an optional procedure known as indexing (i.e., adjusting) to determine a new wage rate for a previously conformed class. See 29 CFR 4.6(b)(2)(iv)(B). This procedure does not require the Department's approval, but it requires the contractor to notify the contracting agency in writing that a previously conformed class has been indexed and to include information describing how the new rate was computed. Id.

D. Submission of Collective Bargaining Agreement (CBA)

Sections 2(a) and 4(c) of the SCA provide that any contractor that succeeds a contract subject to the Act and under which substantially the same services are furnished shall pay any service workers employed on the contract no less than the wages and fringe benefits to which such workers would have been entitled if employed under the predecessor contract. See 29 CFR 4.163(a).

29 CFR 4.6(l)(1) requires a predecessor contractor to provide to the contracting officer a copy of any CBA governing the wages and fringe benefits paid service employees performing work on the contract during the contract period. The contracting agency submits these CBAs to WHD where they are used in issuing wage determinations for successor contracts subject to sections 2(a) and 4(c) of the SCA. See 29 CFR 4.4(c).

WHD uses this information to determine whether covered employers have complied with various legal requirements of the laws administered by the agency. The Department seeks approval to extend this information collection related to labor standards for federal service contracts.

II. Review Focus

The Department of Labor is particularly interested in comments which:

• Evaluate whether the proposed collection of information is necessary for the proper performance of the functions of the agency, including whether the information will have practical utility;

• Enhance the quality, utility, and clarity of the information to be collected;

• Evaluate the accuracy of the agency's estimate of the burden of the proposed collection of information, including the validity of the methodology and assumptions used; or

• Minimize the burden of the collection of information on those who are to respond, including through the use of appropriate automated, electronic, mechanical, or other technological collection techniques or other forms of information technology, e.g., permitting electronic submissions of responses.

III. Current Actions

The Department of Labor seeks an approval for the extension of this information collection that requires employers to make, maintain, and preserve records in accordance with statutory and regulatory requirements.

Type of Review: Extension.

Agency: Wage and Hour Division.

Title: Labor Standards for Federal Service Contracts Regulations.

OMB Control Number: 1235-0007.

Affected Public: Business or other for-profit, Not-for-profit institutions.

Total Respondents: 128,330.

Total Annual Responses: 128,330.

Estimated Total Burden Hours: 127,289.

Frequency: On occasion.

Total Burden Cost (Capital/Startup): $0.

Total Burden Costs (Operation/Maintenance): $0.

Dated: August 04, 2025.
Daniel Navarrete,
Director, Division of Regulations, Legislation, and Interpretation.

[FR Doc. 2025-15024 Filed 8-6-25; 8:45 am]

BILLING CODE 4510-27-P